SMALL BUSINESS ADMINISTRATION

Disaster Declaration #16532; California Disaster Number CA-00321 Declaration of Economic Injury Administrative Declaration Amendment of an Economic Injury Disaster for the State of California

AGENCY: U.S. Small Business Administration.

ACTION: Amendment 1.

SUMMARY: This is an amendment of an Economic Injury Disaster Loan (EIDL) declaration for the State of California, dated 07/07/2020.

Incident: Civil Unrest.

Incident Period: 05/26/2020 and continuing.

DATES: Issued on 07/27/2020.

Economic Injury (EIDL) Loan Application Deadline Date: 04/07/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Economic Injury declaration for the State of California dated 07/07/2020, is hereby amended to include the following areas as adversely affected by the disaster.

Primary Counties: San Diego.

Contiguous Counties:

California: Imperial, Orange, Riverside.

All other information in the original declaration remains unchanged.

(Catalog of Federal Domestic Assistance Number 59008)

Jovita Carranza,
Administrator.

[FR Doc. 2020-16909 Filed 8-3-20; 8:45 am]

BILLING CODE 8026-03-P